DEPARTMENT OF JUSTICE

Drug Enforcement Administration

[Docket No. 25-37]

Enyibuaku Uzoaga, M.D.; Decision and Order

On March 26, 2025, the Drug Enforcement Administration (DEA or Government) issued an Order to Show Cause (OSC) to Enyibuaku Uzoaga, M.D., of Houston, Texas (Applicant). OSC, at 1, 3. The OSC proposed the denial of Applicant's application for a DEA Certificate of Registration, Control No. W24000817C, alleging that Applicant has been excluded from participation in Medicare, Medicaid, and all federal health care programs pursuant to 42 U.S.C. 1320a-7(a). Id. at 1 (citing 21 U.S.C. 824(a)(5)).

A hearing was held before DEA Administrative Law Judge (ALJ) Paul E. Soeffing, who, on June 25, 2025, issued his Recommended Rulings, Findings of Fact, Conclusions of Law, and Decision (RD). The RD recommended that Applicant's application for registration be denied. RD, at 19. Applicant filed exceptions to the RD which are addressed herein. Having reviewed the entire record, the Agency adopts and hereby incorporates by reference the entirety of the ALJ's rulings, credibility findings,¹ findings of fact, conclusions of law, sanctions analysis, and recommended sanctions in the RD, and clarifies and expands upon portions thereof herein.

¹ The Agency adopts the ALJ's summary of the witnesses' testimonies as well as the ALJ's assessment of the witnesses' credibility. RD, at 3-7. The Agency agrees with the ALJ that the testimony from the DEA Diversion Investigator, which was primarily focused on the introduction of the Government's documentary evidence and the Diversion Investigator's contact with the case, was generally consistent and genuine without indication of any animosity towards Applicant, and therefore was credible and warranted significant weight. Id. at 4. The Agency agrees with the ALJ that the testimony from the DEA Group Supervisor, which was primarily focused on rebutting Applicant's testimony regarding the Memorandum of Agreement, also was generally consistent and genuine without indication of any animosity towards Applicant, and therefore was credible and warranted significant weight. Id. at 6. Finally, the Agency agrees with the ALJ's credibility determination regarding the testimony from Applicant, which was primarily focused on her background, her desire to regain a DEA registration, her health care fraud conviction, her exclusion from all federal health care programs, and her interactions with DEA regarding the potential Memorandum of Agreement. Id. at 7. As described by the ALJ, in her testimony, Applicant attempted to minimize her responsibility regarding her role in the health care fraud and attempted to shift the blame to others. Id. Even so, as the ALJ described, Applicant's testimony regarding the underlying facts of the case was otherwise generally consistent and credible. Id. The Agency therefore agrees with the ALJ that Applicant's testimony warrants general weight except where it differs from the corroborated testimony of other witnesses, in which case it warrants less weight. Id.

I. Applicable Law

Pursuant to 21 U.S.C. 824(a)(5), the Agency ² is authorized to suspend or revoke a registration upon finding that the registrant “has been excluded (or directed to be excluded) from participation in a program pursuant to section 1320a-7(a) of Title 42.” The Agency has consistently held that it may also deny an application upon finding that an applicant has been excluded from a federal health care program.³ Mark Agresti, M.D., 90 FR 30098, 30099 (2025); Samirkumar Shah, M.D., 89 FR 71931, 71933 (2024); Arvinder Singh, M.D., 81 FR 8247, 8248 (2016).

² The Controlled Substances Act (CSA) delegates power to the Attorney General, who has delegated it to the Administrator of the DEA (the Agency) by 28 CFR 0.100.

³ A statutory basis to deny an application pursuant to section 823 is also a basis to revoke or suspend a registration pursuant to section 824, and vice versa, because doing “otherwise would mean that all applications would have to be granted only to be revoked the next day . . . .” Robert Wayne Locklear, M.D., 86 FR 33738, 33744-45 (2021) (collecting cases).

II. Findings of Fact

The following facts are undisputed.⁴ On November 3, 2015, Applicant was convicted of one count of conspiracy to commit health care fraud in violation of 18 U.S.C. 1347, 1349 and six counts of health care fraud in violation of 18 U.S.C. 2, 1347.⁵ RD, at 2; Government Exhibit (GX) 4, at 6-22; GX 5, 1-2. On March 24. 2016, Applicant was sentenced to 42 months of incarceration on each count, to be served concurrently, and ordered to pay restitution in the amount of $389,294.99.⁶ RD, at 2; GX 6, at 3, 6. Based on Applicant's conviction, the U.S. Department of Health and Human Services, Office of Inspector General (HHS/OIG), excluded Applicant, effective August 18, 2016, from participation in Medicare, Medicaid, and all federal health care programs pursuant to 42 U.S.C. 1320a-7(a) for a minimum period of fifteen years.⁷ RD, at 2; GX 8, at 1-2. On June 21, 2017, the fifteen-year exclusion was affirmed. RD, at 2; GX 10, at 1, 9.⁸ Accordingly, the Agency finds more than substantial record evidence ⁹ that Applicant has been, and continues to be, excluded from participation in Medicare, Medicaid, and all federal health care programs pursuant to 42 U.S.C. 1320a-7(a).

⁴ According to the CSA, “[f]indings of fact by the [DEA Administrator], if supported by substantial evidence, shall be conclusive.” 21 U.S.C. 877. Here, where Applicant has stipulated to all of the material facts, the record evidence exceeds the “substantial evidence” standard of 21 U.S.C. 877; it is unrebutted evidence.

⁵ Applicant stipulated to this fact. See ALJ Exhibit 16, at 3 (Stipulation 4).

⁶ Applicant stipulated to this fact. See ALJ Exhibit 16, at 3 (Stipulation 5).

⁷ Applicant stipulated to this fact. See ALJ Exhibit 16, at 3 (Stipulation 6).

⁸ Applicant stipulated to this fact. See ALJ Exhibit 16, at 3 (Stipulation 7).

⁹ Where Applicant has stipulated to a fact, the Agency exceeds the “substantial record evidence” standard. See supra n.4.

III. Discussion

The Agency agrees with the ALJ and finds substantial record evidence that Applicant has been, and remains, mandatorily excluded from federal health care programs pursuant to 42 U.S.C. 1320a-7(a),¹⁰ and Applicant has admitted to the same. RD, at 11-12; GX 8, at 1-2; GX 10, at 1, 9; ALJ Exhibit 16, at 3 (Stipulations 6-7). Accordingly, the Agency finds that substantial record evidence establishes the Government's prima facie case for denying Applicant's application under 21 U.S.C. 824(a)(5), that Applicant did not rebut that prima facie case, and that there is substantial record evidence supporting the denial of Applicant's application.¹¹

¹⁰ The Agency has consistently held that it may deny an application under 21 U.S.C. 824(a)(5) even if the conviction underlying the exclusion does not relate to controlled substances. See, e.g., Phong H. Tran, M.D., 90 FR 14383, 14384 n.10 (2025) (collecting cases).

¹¹ Pursuant to 21 U.S.C. 823(g)(1), “[t]he Attorney General shall register practitioners . . . to dispense . . . controlled substances . . . if the applicant is authorized to dispense . . . controlled substances under the laws of the State in which he practices.” 21 U.S.C. 823(g)(1). This regulation further provides that an application for a practitioner's registration may be denied upon a determination that “the issuance of such registration . . . would be inconsistent with the public interest” and requires consideration of five factors in making such a determination. Id. In both her post-hearing brief and her Exceptions, Applicant argues that analysis of the five public interest factors of 21 U.S.C. 823(g)(1) does not demonstrate that granting her application for registration would be inconsistent with the public interest (note: Applicant appears to cite in error to 21 U.S.C. 823(f), which pertains to distributors of controlled substances in Schedules III-V). Applicant's Proposed Findings of Fact and Conclusions of Law, at 4-9; Applicant's Exceptions, at 3-6. However, in the current matter, it is undisputed that Applicant holds a valid state medical license and is authorized to dispense controlled substances in Texas. Moreover, because the Government has not alleged that Applicant's registration is inconsistent with the public interest under 21 U.S.C. 823(g)(1), and although the Agency has considered 21 U.S.C. 823(g)(1), the Agency will not analyze Applicant's application under the five public interest factors, in accordance with prior agency decisions. See Shah, 89 FR at 71933; Daniel R. Nevarre, M.D., 87 FR 3340, 3341-42 (2022).

IV. Sanction

Where, as here, the Government has met its prima facie burden of showing that Applicant's application for registration should be denied, the burden shifts to Applicant to show why she can be entrusted with a registration. Morall v. Drug Enf't Admin., 412 F.3d. 165, 174 (D.C. Cir. 2005); Jones Total Health Care Pharmacy, LLC v. Drug Enf't Admin., 881 F.3d 823, 830 (11th Cir. 2018); Garrett Howard Smith, M.D., 83 FR 18882, 18904 (2018). The issue of trust is necessarily a fact-dependent determination based on the circumstances presented by the individual registrant. Jeffrey Stein, M.D., 84 FR 46968, 46972 (2019); see also Jones Total Health Care Pharmacy, 881 F.3d at 833. Moreover, as past performance is the best predictor of future performance, the Agency has required that a registrant who has committed acts inconsistent with the public interest must accept responsibility for those acts and demonstrate that he or she will not engage in future misconduct. See Jones Total Health Care Pharmacy, 881 F.3d at 833; ALRA Labs, Inc. v. Drug Enf't Admin., 54 F.3d 450, 452 (7th Cir. 1995). The Agency requires a registrant's unequivocal acceptance of responsibility. Janet S. Pettyjohn, D.O., 89 FR 82639, 82641 (2024); Mohammed Asgar, M.D., 83 FR 29569, 29573 (2018); see also Jones Total Health Care Pharmacy, 881 F.3d at 830-31. In addition, a registrant's candor during the investigation and hearing is an important factor in determining acceptance of responsibility and the appropriate sanction. See Jones Total Health Care Pharmacy, 881 F.3d at 830-31; Hoxie v. Drug Enf't Admin., 419 F.3d 477, 483-84 (6th Cir. 2005). Further, the Agency has found that the egregiousness and extent of the misconduct are significant factors in determining the appropriate sanction. See Jones Total Health Care Pharmacy, 881 F.3d at 833 n.4, 834. The Agency also considers the need to deter similar acts by a registrant and by the community of registrants. Jeffrey Stein, M.D., 84 FR at 46972-73.

Here, although Applicant testified that she “[l]earned [her] lesson,” is “incredibly sorry,” and takes “full responsibility,” the Agency agrees with the ALJ that Applicant failed to unequivocally accept responsibility for her misconduct. RD, at 6, 17; Tr. 67, 68, 106-07, 118-19. Instead, Applicant repeatedly emphasized that she had “trusted the wrong people” and placed the blame on the therapy company and billing company that she had contracted with. RD, at 6, 15-16; Tr. 66, 97, 121-22.

Applicant asserted that she had no knowledge of the fraud and “unbeknownst to [her], the therapy company and the biller had connived to submit false claims,” including by billing for services under her provider number and billing for hundreds of tests when only one was performed. RD, at 6, 15-16; Tr. 66-67, 97, 99, 105, 107. According to Applicant, she was “too busy doing a lot of hospital work at that time and also seeing patients in the clinic” and she “had no reason to suspect anybody. [She] believed that everyone was doing what they were supposed to do.” RD, at 15; Tr. 122-23; see Bernadette U. Iguh, M.D., 87 FR 56709, 56711 (2022) (“Respondent's emphasis on her ignorance as the cause of her misconduct . . . serve[s] to downplay the extent to which her own actions and decisions were harmful.”).

Applicant also repeatedly asserted that “there was no direct evidence” connecting her to the fraud. RD, at 6, 15; Tr. 67, 97, 103. Applicant testified that her office manager was the one who wrote all the checks to the biller, that the biller kept all of the submitted claims, and that the biller testified at trial that Applicant had had no knowledge of the fraud that was going on. RD, at 6; Tr. 102. In line with her placing the blame on others and emphasizing her ignorance, Applicant's categorical denial here of any direct connection to the fraud demonstrates a marked unwillingness to unequivocally accept responsibility.

Finally, as noted by the ALJ, Applicant failed to acknowledge the harm done to her patients by her betraying their trust, as well as the unnecessary medical tests that her patients underwent because of the fraud. RD, at 14-15, 16; ¹² see Iguh, M.D., 87 FR at 56711 (“Respondent's emphasis on her ignorance . . . in tandem with Respondent's lack of emphasis on the damages she caused, both serve to downplay the extent to which her own actions and decisions were harmful.”).

¹² In her Exceptions, Applicant argued that she introduced the potential Memorandum of Agreement (MOA) “to show that she was qualified for [a] DEA [registration]” because DEA offered her a registration “inspite [sic.] of her 2016 conviction and exclusion[, which] NEGATES the relief sought by the DEA.” Exceptions, at 2-3. The Agency disagrees. Had the MOA been signed, Applicant would not be able to handle Schedule II controlled substances and would be under additional restrictions. RD, at 4; Tr. 46. Therefore, the MOA, to the extent it is relevant, suggests that DEA, absent agreed upon restrictions (and there was no agreement), did not trust Applicant with a registration, consistent with the Agency's findings herein. Applicant further objects to the ALJ's finding that “because no agreement was reached, [the] MOA is immaterial in this case.” Exceptions at 3. To the extent that the circumstances and communications surrounding the MOA were relevant, they would further suggest to the Agency that Applicant had not unequivocally accepted responsibility for her actions. According to the Diversion I, Applicant wanted “full and clear DEA registration without any restrictions.” RD, at 4; Tr. 46. The DEA Group Supervisor testified that Applicant did not think she needed an MOA and instead wanted a DEA registration with no restrictions and for all schedules. RD, at 5; Tr. 128, 129, 133-34, 136. Applicant testified she was not willing to agree to two years of supervision, RD, at 7; Tr. 74-75, 79-80, 88; Applicant Exhibit (RX) 4, at 7; but that she thought “anything from 90 days to six months [was] fair” for her to be under probation. RD, at 7; Tr. 88-89. Ultimately, the MOA and the communications surrounding it are immaterial as, even without it, the Agency would find that Applicant had not demonstrated her unequivocal acceptance of responsibility.

Accordingly, the Agency finds that Applicant did not unequivocally accept responsibility for her actions.¹³ When a registrant fails to make the threshold showing of acceptance of responsibility, the Agency need not address the registrant's remedial measures. Ajay S. Ahuja, M.D., 84 FR 5479, 5498 n.33 (2019) (citing Jones Total Health Care Pharmacy, L.L.C., & SND Health Care, L.L.C., 81 FR 79188, 79202-03 (2016)); Daniel A. Glick, D.D.S., 80 FR 74800, 74801, 74810 (2015).¹⁴

¹³ In her Exceptions, Applicant cited to evidence of her testimony accepting “her full responsibility,” Exceptions, at 1, but as discussed herein, the Agency finds that Applicant's acceptance of responsibility was not unequivocal.

¹⁴ Applicant did provide examples of certain remedial measures and the Agency has considered them. Applicant testified that since she has returned to practice, she renders all billing, therapy, and services in-house under her direct supervision. RD, at 6; Tr. 68. Applicant also testified that she has a compliance program in place and is following all rules and regulations. RD, at 6; Tr. 68; see also RD, at 7; Tr. 80-83; Exceptions at 1-2. Applicant also noted that in 2022, after completing a remedial course, she regained her full, unrestricted medical license. RD, at 6; Tr. 69-70; GX 3. However, without an unequivocal acceptance of responsibility, Applicant's remedial measures are insufficient for the Agency to determine that Applicant can be trusted with a registration. See Lewisville Medical Pharmacy, 87 FR 59456, 59460 n.16 (2022); Brenton D. Wynn, M.D., 87 FR 24228, 24261 (2022); Michael T. Harris, M.D., 87 FR 30276, 30278-79 (2022).

The Agency further agrees with the ALJ that Applicant's actions in the underlying criminal conduct are egregious such that denial of her application for registration is appropriate. RD, at 19. The Agency has found that “defrauding health care programs is egregious,” in and of itself. Gilbert Y. Kim, D.D.S., 87 FR 21139, 21145 (2022); Samirkumar Shah, M.D., 89 FR at 71934. Furthermore, Applicant's mandatory exclusion period was set and affirmed at fifteen years. GX 8, at 1; GX 10, at 9. This is ten years in excess of the mandatory minimum prescribed by statute. See 42 U.S.C. 1320a-7(c)(3)(B); see also Jones, 86 FR at 20732 (an exclusion period in excess of the statutory minimum can be considered on the issue of egregiousness). As noted by the ALJ, the exclusion letter issued to Applicant from HHS/OIG and the Departmental Appeals Board Decision explain that Applicant's fraud included three aggravating factors: (1) Applicant's misconduct caused or was intended to cause financial loss of more than $5,000 to a government agency or program; (2) Applicant committed the misconduct over a period of one year or more; and (3) Applicant's sentence included incarceration.¹⁵ RD, at 18; GX 8, at 1-2; GX 10, at 6. When Applicant appealed her exclusion, the Departmental Appeals Board Administrative Law Judge found that HHS/OIG had a basis for its exclusion of Applicant and that the fifteen-year exclusion period was “reasonable.” RD, at 18; GX 10, at 9.

¹⁵ The ALJ noted: (1) the monetary loss attributed to Applicant's fraud was more than 75 times the $5,000 threshold; (2) Applicant's fraud occurred over a period of more than five years; and (3) Applicant was incarcerated for 42 months. RD, at 18-19; GX 6, at 1-3; GX 7, at 2; GX 8, at 2, GX 10, at 6-7.

As described supra, the Agency also considers both specific and general deterrence when determining an appropriate sanction. Daniel A. Glick, D.D.S., 80 FR at 74810. Regarding both specific and general deterrence, the Agency agrees with the ALJ that in the current matter, imposing sanction will “ `deter [Applicant] and the general registrant community from unethical behavior and deceit, particularly involving the acceptance of money for unlawful and unethical acts” because “[i]t is not difficult to imagine, as the Agency has repeatedly encountered, this situation repeating itself in the context of receiving money for controlled substance prescriptions.' ” RD, at 18 (quoting Nicholas P. Roussis, M.D., 86 FR 59190, 59195 (2021)).

In sum, the Agency agrees with the ALJ that Applicant has not offered any credible evidence on the record to rebut the Government's prima facie case for denial of her application for registration and Applicant has not met her burden to demonstrate that she can be entrusted with the responsibility of registration. RD, at 19. Accordingly, the Agency will order that Applicant's application for registration be denied.

Order

Pursuant to 28 CFR 0.100(b) and the authority vested in me by 21 U.S.C. 823(g)(1), I hereby deny the pending application for a DEA Certificate of Registration, Control No. W24000817C, submitted by Enyibuaku Uzoaga, M.D., as well as any other pending application of Enyibuaku Uzoaga, M.D., for additional registration in Texas. This Order is effective November 20, 2025.

Signing Authority

This document of the Drug Enforcement Administration was signed on October 9, 2025, by Administrator Terrance Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-19611 Filed 10-20-25; 8:45 am]

BILLING CODE 4410-09-P